DEPARTMENT OF HEALTH AND HUMAN SERVICES

Centers for Medicare & Medicaid Services

[Document Identifiers: CMS-10398 Nos. 17, 37, and 96]

Medicaid and Children's Health Insurance Program (CHIP) Generic Information Collection Activities: Proposed Collection; Comment Request

AGENCY: Centers for Medicare & Medicaid Services, Health and Human Services (HHS).

ACTION: Notice.

SUMMARY: On May 28, 2010, the Office of Management and Budget (OMB) issued Paperwork Reduction Act (PRA) guidance related to the “generic” clearance process. Generally, this is an expedited process by which agencies may obtain OMB's approval of collection of information requests that are “usually voluntary, low-burden, and uncontroversial collections,” do not raise any substantive or policy issues, and do not require policy or methodological review. The process requires the submission of an overarching plan that defines the scope of the individual collections that would fall under its umbrella. On October 23, 2011, OMB approved our initial request to use the generic clearance process under control number 0938-1148 (CMS-10398). It was last approved on April 26, 2021, via the standard PRA process which included the publication of 60- and 30-day Federal Register notices. The scope of the April 2021 umbrella accounts for Medicaid and CHIP State plan amendments, waivers, demonstrations, and reporting. This Federal Register notice seeks public comment on one or more of our collection of information requests that we believe are generic and fall within the scope of the umbrella. Interested persons are invited to submit comments regarding our burden estimates or any other aspect of this collection of information, including: the necessity and utility of the proposed information collection for the proper performance of the agency's functions, the accuracy of the estimated burden, ways to enhance the quality, utility and clarity of the information to be collected, and the use of automated collection techniques or other forms of information technology to minimize the information collection burden.

DATES: Comments must be received by December 22, 2025.

ADDRESSES: When commenting, please reference the applicable form number (CMS-10398 #__) and the OMB control number (0938-1148). To be assured consideration, comments and recommendations must be submitted in any one of the following ways:

1. Electronically. You may send your comments electronically to http://www.regulations.gov. Follow the instructions for “Comment or Submission” or “More Search Options” to find the information collection document(s) that are accepting comments.

2. By regular mail. You may mail written comments to the following address: CMS, Office of Strategic Operations and Regulatory Affairs, Division of Regulations Development, Attention: CMS-10398 #__/OMB control number: 0938-1148, Room C4-26-05, 7500 Security Boulevard, Baltimore, Maryland 21244-1850.

To obtain copies of a supporting statement and any related forms for the proposed collection(s) summarized in this notice, please access the CMS PRA website by copying and pasting the following web address into your web browser: https://www.cms.gov/Regulations-and-Guidance/Legislation/PaperworkReductionActof1995/PRAListing.

FOR FURTHER INFORMATION CONTACT: William N. Parham at (410) 786-4669.

SUPPLEMENTARY INFORMATION: Following is a summary of the use and burden associated with the subject information collection(s). More detailed information can be found in the collection's supporting statement and associated materials (see ADDRESSES).

Generic Information Collections

1. Title of Information Collection: CHIP State Plan Eligibility; Type of Information Collection Request: Revision of a currently approved collection; Use: The revised template (General Eligibility—Incarcerated CHIP Beneficiaries) and an associated implementation guide are intended to conform with Division G, Title I, Section 205 of the Consolidated Appropriations Act of 2024 which expands the prohibition of terminating an individual's CHIP eligibility because they are an inmate of a public institution to targeted low-income pregnant women. Effective January 1, 2026, states must cease terminating CHIP eligibility for targeted low-income pregnant women but may instead suspend their coverage during the enrollee's incarceration. States that elect to suspend coverage may implement either a benefits or eligibility suspension. Form Number: CMS-10398 #17 (OMB control number: 0938-1148); Frequency: Once and Occasionally; Affected Public: State, Local, or Tribal Governments; Number of Respondents: 56; Total Annual Responses: 56; Total Annual Hours: 2,800. (For policy questions regarding this collection contact: Mary Beth Hance at 443-934-2613.)

2. Title of Information Collection: Medicaid Managed Care Rate Development Guide; Type of Information Collection Request: Revision of a currently approved collection; Use: States must submit to CMS for review and approval all rate certifications for managed care plans. The state's actuary is responsible for certifying that the managed care program's capitation rates are actuarially sound for a specific time period and documents the rate development process and the final certified capitation rates in a rate certification. The Medicaid Managed Care Rate Development Guides outline the rate development standards and CMS' expectations for documentation included in rate certifications such as descriptions of base data used, trend factors to base data, projected benefit and non-benefit costs, and any other considerations or adjustments used when setting capitation rates. CMS is required to update the rate guide at least annually. To meet this requirement the 2026-2027 rate guide revises the 2025-2026 rate guide. Form Number: CMS-10398 #37 (OMB control number: 0938-1148); Frequency: Once and Occasionally; Affected Public: State, Local, or Tribal Governments; Number of Respondents: 47; Total Annual Responses: 137; Total Annual Hours: 754. (For policy questions regarding this collection contact: Rebecca Burch Mack at 303-844-7355.)

3. Title of Information Collection: Medicaid and the Children's Health Insurance Program (CHIP) Parity Tools; Type of Information Collection Request: New; Use: CMS has created a set of tools in the form of Excel workbook templates with accompanying instructions, both to assist states in complying with Mental Health Parity and Addiction Equity Act requirements and to simplify and standardize collecting information for state and CMS review. The tools will be made available for optional state use. CMS encourages states to use the tools and provide feedback to CMS. CMS will require that states use these tools as applicable to the state's program(s), and submit them to CMS, at a future date, which will be communicated through notice and comment rulemaking. Form Number: CMS-10398 #96 (OMB control number: 0938-1148); Frequency: Once and on occasion; Affected Public: Private Sector and State, Local, or Tribal Governments; Number of Respondents: 525; Total Annual Responses: 83; Total Annual Hours: 1,925. (For policy questions regarding this collection contact: Marlana Thieler at 410-786-6274.)

William N. Parham, III,
Director, Division of Information Collections and Regulatory Impacts, Office of Strategic Operations and Regulatory Affairs.

[FR Doc. 2025-22184 Filed 12-5-25; 8:45 am]

BILLING CODE 4120-01-P